INTERNATIONAL TRADE COMMISSION

[USITC SE-12-003]

Government in the Sunshine Act Meeting Notice

AGENCY HOLDING THE MEETING: United States International Trade Commission.

TIME AND DATE: February 10, 2012 at 11 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-486 and 731-TA-1195-1196 (Preliminary) (Utility Scale Wind Towers from China and Vietnam). The Commission is currently scheduled to transmit its determinations to the Secretary of Commerce on or before February 13, 2012; Commissioners' opinions are currently scheduled to be transmitted to the Secretary of Commerce on or before February 21, 2012.

5. Vote in Inv. Nos. 701-TA-487 and 731-TA-1197-1198 (Preliminary) (Steel Wire Garment Hangers from Taiwan and Vietnam). The Commission is currently scheduled to transmit its determinations to the Secretary of Commerce on or before February 13, 2012; Commissioners' opinions are currently scheduled to be transmitted to the Secretary of Commerce on or before February 21, 2012.

6. Vote in Inv. Nos. 701-TA-488 and 731-TA-1199-1200 (Preliminary) (Certain Large Residential Washers from Korea and Mexico). The Commission is currently scheduled to transmit its determinations to the Secretary of Commerce on or before February 13, 2012; Commissioners' opinions are currently scheduled to be transmitted to the Secretary of Commerce on or before February 21, 2012.

7. Outstanding action jackets: None

In accordance with Commission policy, subject matter listed above, not disposed of at the scheduled meeting, may be carried over to the agenda of the following meeting.

By order of the Commission.
Issued: February 1, 2012.
James R. Holbein,
Secretary to the Commission.

[FR Doc. 2012-3104 Filed 2-7-12; 11:15 am]

BILLING CODE 7020-02-P